DEPARTMENT OF HEALTH AND HUMAN SERVICES

Office of Inspector General

Program Exclusions: August 2000

AGENCY: Office of Inspector General, HHS.

ACTION: Notice of program exclusions.

During the month of August 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
ALMARALES, BEATRIZ | 09/20/00
MIAMI, FL
ARORA, VASU | 09/20/00
LEXINGTON, KY
ARTEAGA, ISIDORO | 09/20/00
MIAMI, FL
BAKER, VALERIE | 09/20/00
MELVILLE, NY
BARTZ, NICHOLAS W | 09/20/00
PHOENIX, AZ
BENNETT, DEREK KEVIN | 09/20/00
DETROIT, MI
BRACKNEY, JOHN ALBERT | 09/20/00
PEORIA, IL
BROWNING, JOSEPHINE A | 09/20/00
SYLVANIA, OH
CARMONA, MARIA CLARA | 09/20/00
HIALEAH, FL
CASSITY, SHARON A | 09/20/00
TOLEDO, OH
CHONG, NANI | 09/20/00
PHILADELPHIA, PA
CHONG, JOHN Y | 09/20/00
PHILADELPHIA, PA
CRAUSMAN, JEFFREY | 09/20/00
TAFT, CA
CUELLO, CARMEN | 09/20/00
MIAMI, FL
CULLEN, ANDREW | 09/20/00
OCEANSIDE, NY
DALTON, NANCY SUE | 09/20/00
CLINTON, IA
DICKSON, DAVID | 09/20/00
MECHANICSBURG, PA
DREYFUSS, DONALD S | 09/20/00
BLOOMFIELD HILLS, MI
DUBOIS, MAXINE ELAINE | 09/20/00
SWARTZ CREEK, MI
EALY, MELISSA DAVINA | 09/20/00
GOSHEN, OH
EDELSTEIN, JOSEPH | 09/20/00
ARNOLD, PA
FINA, JOSE | 09/20/00
MIAMI, FL
FRENCH, PAUL COMLY JR | 09/20/00
BANGOR, MI
GANN, CHARLES THOMAS | 09/20/00
OKLAHOMA CITY, OK
GARCIA, HERIBERTO | 09/20/00
MIAMI, FL
GARRETT, KATHERYN JANE | 09/20/00
POTEAU, OK
GLENN, SANDRA SUE | 09/20/00
FORT SMITH, AR
GOMAN, TRISH M | 09/20/00
GRADY, AR
GONZALEZ MARTINEZ, LILIANA | 09/20/00
MIAMI, FL
HADDOCK, CARROLL DEANE | 09/20/00
YUMA, AZ
HANSON MEDICAL SUPPLY, INC | 09/20/00
HANSON, MA
HYNES, GEORGE ADELBERT | 09/20/00
MINERSVILLE, PA
JEFFRIES-GLASGOW, DEBORAH | 09/20/00
VIRGINIA BEACH, VA
KEY, LEE T | 09/20/00
CHICAGO, IL
KLAGES, LISA ANN | 09/20/00
MILO, IA
MINASYAN, NSHAN | 09/20/00
LOS ANGELES, CA
MINASYAN, AKOP | 09/20/00
MONTEBELLO, CA
OTERI, ROSEMARY | 09/20/00
HANSON, MA
PAPOLCZY, THERESA | 09/20/00
SANDOVAL, IL
PICCIOTTI, JOSEPH | 09/20/00
VOORHEES, NJ
PROGRESSIVE CARE AMBULANCE SVC | 09/20/00
JESSUP, MD
PUBLIC GUARDIAN OF WEST MICHIG | 09/20/00
BANGOR, MI
RAWANA, SOROJUNI | 09/20/00
GANADO, AZ
REINKE, HOLLY | 09/20/00
TOLEDO, OH
RIVERA, SUSAN | 09/20/00
CHANDLER, AZ
ROBINSON, BYRON C | 09/20/00
MILTON, MA
ROSENBLATT, SIDNEY MARVIN | 09/20/00
BRONX, NY
ROSSITER, GROVER CLEVELAND | 09/20/00
LONGMONT, CO
RUSSELL, THOMAS W | 09/20/00
WHITE OAK, PA
SANCHEZ-ARGUELLO, JOSE E | 09/20/00
MIAMI, FL
SHEPPARD, MILLARD C JR | 09/20/00
JESSUP, MD
SIEGEL, HAROLD | 09/20/00
EASTCHESTER, NY
SIVERHUS, JAMES DELAINE | 09/20/00
YOUNGTOWN, AZ
SPATZ, JEFFREY | 09/20/00
PITTSBURGH, PA
UPSHAW, ROBINLENE | 09/20/00
FRESNO, CA
VOLOSEVICH, EVELYN | 09/20/00
BALDWIN, NY
VOLOSEVICH HOME CARE, INC | 09/20/00
BALDWIN, NY
FELONY CONV FOR HC FRAUD 1128(a)(3)
ALEXANDER, LEROY | 09/20/00
BONITA, CA
ANAYA, JAVIER MEDA | 09/20/00
TIJUANA, MEXICO
BAILEY, TONYA | 09/20/00
PHILADELPHIA, PA
BLACKSHER, MARY MARGARET | 09/20/00
BRYAN, TX
BROWER, CHRISTINA | 09/20/00
AURORA, CO
CASEY, SIMON ANDREW | 09/20/00
SAN CLEMENTE, CA
CORDOVA, MARCO ANTONIO | 09/20/00
TIJUANA, MEXICO
CUBILLAS, VICTOR | 09/20/00
TIJUANA, MEXICO
ENG-PEREZ, FERNANDO | 09/20/00
TIJUANA, MEXICO
FIGUEROA, PASCUAL | 09/20/00
TIJUANA, MEXICO
FLORES, SILVIA | 09/20/00
TIJUANA, MEXICO
GRANTHAM, EDMOND C | 09/20/00
ALEXANDRIA, VA
LEDEZMA, DAVID | 09/20/00
TIJUANA, MEXICO
LIPKIN, PAUL | 09/20/00
MINERSVILLE, PA
MACIAS, MARTIN | 09/20/00
TIJUANA, MEXICO
MAL, MARIAN | 09/20/00
TROUTDALE, OR
MERLOS, JOAQUIN | 09/20/00
BASTROP, TX
MIRO, JOSE | 09/20/00
TIJUANA, MEXICO
MUNGUIA, JOSE ANGEL | 09/20/00
TIJUANA, MEXICO
OCEGUERA, ANTONIO | 09/20/00
TIJUANA, MEXICO
PALMER, DAVID | 09/20/00
LA MESA, CA
QUINTANA, ELIZABETH | 09/20/00
TIJUANA, MEXICO
RAMIREZ-MERLOS, JAVIER | 09/20/00
SAN YSIDRO, CA
ROBINSON, DAVID | 09/20/00
NORTH WALES, PA
RODRIGUEZ, ANN R | 09/20/00
DOYLESTOWN, PA
RODRIGUEZ, ANTONIO | 09/20/00
TIJUANA, MEXICO
VALDEZ, LUIS | 09/20/00
TIJUANA, MEXICO
VAZQUEZ, ADRIAN | 09/20/00
TIJUANA, MEXICO
VEGA, SALVADOR | 09/20/00
IMPERIAL BEACH, CA
WALKER, DORISTEEN L | 09/20/00
CHICAGO, IL
FELONY CONTOL SUBST CONV 1128(a)(4)
AYERS, JERRY DANIEL | 09/20/00
ESCONDIDO, CA |
FROMM, JACKIE L | 09/20/00
PEKIN, IL |
HAMER, LAWRENCE ALLEN | 09/20/00
WEST LIBERTY, IA |
HEWES, MAUREEN C | 09/20/00
LANSDOWNE, PA |
JASPERSON, LESLIE KAY | 09/20/00
LEGRAND, IA |
KORTE, GREGORY G | 09/20/00
MIAMISBURG, OH |
MORLAN, PAMELA ANN | 09/20/00
NORTHFIELD, MN |
TALBOT, KATHLEEN ELLEN | 09/20/00
AMHERST, OH |
PATIENT ABUSE/NEGLECT/CONVICTIONS
BOSWORTH, MARSHA K | 09/20/00
LAS VEGAS, NV |
BRADLEY, LANA LENOR | 09/20/00
MARRERO, LA |
BRASWELL, TAMMY | 09/20/00
GREELEY, CO |
BROWN, SHANTAY | 09/20/00
BALTIMORE, MD |
CHEN, TAN | 09/20/00
PINE BROOK, NJ |
CLARK, CHAFFONDA ANTOINETTE | 09/20/00
WOONSOCKET, RI |
COLE, STANFORD | 09/20/00
LAUREL, MS |
COLLINS, JEAN | 09/20/00
BUFFALO, NY |
CRIST, DENISE L | 09/20/00
OKLAHOMA CITY, OK |
DEAN, JAMES C | 09/20/00
MATTOON, IL |
DUMAS, REGINA ANN | 09/20/00
COLUMBUS, OH |
ELSWICK, PAMELA VIOLET | 09/20/00
LEON, WV |
FIGARY, JACK M II | 09/20/00
EAST MOLINE, IL |
GARRETT, WILLIAM CLIFFORD | 09/20/00
WESTMINISTER, CO |
HEATH, BEVERLY HALLUMS | 09/20/00
DETROIT, MI |
JARRELS, WILLIAM COLIN | 09/20/00
FORT SMITH, AR |
KAHUT, RICHARD A | 09/20/00
BELLBROOK, OH |
KNIGHT, SABRINA FELISHA | 09/20/00
PICAYUNE, MS |
LEE, JACQUOLYN RENEE | 09/20/00
HOUSTON, TX |
MARTIN, KRISTY ANNE | 09/20/00
OAKDALE, CA |
MATCHETT, ANNETTE C | 09/20/00
LORAIN, OH |
MCCANN, WAYNE EUGENE | 09/20/00
CAMP HILL, PA |
MIDENBERG, DAVID SEAMON | 09/20/00
DETROIT, MI |
MILLER, JACQUELYN A | 09/20/00
NORWALK, OH |
MIRANDA, CESAR P | 09/20/00
BUTLER, PA |
MORRIS, DEBBIE | 09/20/00
TUPELO, MS |
NAMBI, EVA RITA | 09/20/00
WELLESLEY, MA |
NORTON, WAYNE PETER | 09/20/00
GARDINER, ME |
PATTERSON, RACHEL KATHLEEN | 09/20/00
MT VERNON, IL |
PRESBERY, DENISE R | 09/20/00
DARLINGTON, SC |
SCHWERS, ELAINE FATIMA | 09/20/00
BROKEN ARROW, OK |
SCOTT, VIVIAN DIANE | 09/20/00
LONG BEACH, CA |
SHIPLEY, MICHELLE L | 09/20/00
MORGANTOWN, WV
SHIRLEY, RUBY BEATRICE | 09/20/00
HUMBOLT, TN
SIEGEL, PHILIP | 09/20/00
MIAMI, FL
SMITH, RONZELL C | 09/20/00
BEACON, NY
VANBENCOTEN, THOMAS | 09/20/00
ELMIRA, NY
VANKAMPEN, JACK CHRISTIAN | 09/20/00
LAINGSBURG, MI
WALKER, FATIMA | 09/20/00
BUFFALO, NY
WILLIAMS, KIMBERLY | 09/20/00
BUFFALO, NY
WINSTON, EMILY WILL | 09/20/00
LONG BEACH, CA
YALE, DONNA APPEL | 09/20/00
FARMINGDALE, NJ
CONVICTION FOR HEALTH CARE FRAUD
BEACHAM, TERRY | 09/20/00
PEARL, MS
CONTROLLED SUBSTANCE CONVICTIONS
MCNEIL, JENNIFER L | 09/20/00
BELGIUM, WI
SHARMA, KUSUM | 09/20/00
FORTH WORTH, TX
SNOOK, RANDALL LYNN | 09/20/00
LITTLETON, CO
WARD, MARY JANE | 09/20/00
HUMMELSTOWN, PA
LICENSE REVOCATION/SUSPENSION
AKERS, KYLE RAY | 09/20/00
VIOLA, IA
ALLRED, MICHAEL B | 09/20/00
OREM, UT
ANTHONY, VIOLET K | 09/20/00
GREELEY, CO
ARITA, VALERIE EMIKO | 09/20/00
SAN DIEGO, CA
BARBA, FIDELIS A | 09/20/00
SADDLE RIVER, NJ
BARRETT, ROYCE ALAN | 09/20/00
REDDING, CA
BECK, JAMES BRAD | 09/20/00
HENDERSON, NV
BERKIL, KRISTIE J | 09/20/00
CHAMPAIGN, IL
BOHLMAN, LORI GAYLE | 09/20/00
BRISTOL, CT
BOYD, JUDITH ANN | 09/20/00
RIVERSIDE, RI
BRACKETT, ROSEMARY M | 09/20/00
MIAMI, FL
BUDAY, PATRICK A | 09/20/00
GILBERTSVILLE, PA
BURKE, ARNOLD T | 09/20/00
WHITEHALL, NY
BURKE, JANICE A | 09/20/00
ROCHESTER, NY
BURNS, MARCIA ANN | 09/20/00
AURORA, CO
BURRA, DIANE RUTH | 09/20/00
TARZANA, CA
BYRD, HELENA LOU | 09/20/00
SAN ANTONIO, TX
CARDOSI, ANN C | 09/20/00
PAWTUCKET, RI
CARDWELL, MARTHA M | 09/20/00
KNOXVILLE, TN
CARINGAL, LEOGILDO MAGBUHOS | 09/20/00
LOS ANGELES, CA
CARLOS, MARTHA SUAREZ | 09/20/00
OZONA, TX
CARRINGTON, KURLEIGH | 09/20/00
DENVER, CO
CARTER, VERONICA M | 09/20/00
RIVERTON, UT
CASTRO, RAMEILA JAN | 09/20/00
LODI, CA
CAVER, KENNETH WENSTON | 09/20/00
NORTH LITTLE ROCK, AR
CERKAN, DENISE MARIE | 09/20/00
CHICAGO, IL
CHIDLOWSKY, SERGEI | 09/20/00
ROHNERT PARK, CA
CHOINIERE, DAVID MICHAEL | 09/20/00
PARADISE, CA
CLAPPER, JAMES S | 09/20/00
IOWA CITY, IA
CLAUSE, GRACIANO EVANS | 09/20/00
BROOKLYN, NY
COFFEY, PETER N | 09/20/00
CHINA, ME
COLE, PATRICIA S | 09/20/00
SPRINGFIELD, VT
COLLINS, JERRI L | 09/20/00
ROCKFORD, IL
CRISTMAN, MOLLY | 09/20/00
ALEXANDRIA, VA
CRUM, TIMOTHY JAMES | 09/20/00
JOLIET, IL
DECARLO, DEBRA MARIE | 09/20/00
CLARENCE, NY
DEMMERS, DANIEL GAREY | 09/20/00
VISALIA, CA
DIGIORGIO, DOROTHY L | 09/20/00
SOMERSWORTH, NH
DRUMMOND, ERNEST M | 09/20/00
BAKERSFIELD, CA
DULL, HEATHER R | 09/20/00
YORK, PA
DUTTON, GWENDOLYNN J | 09/20/00
BARRE, VT
EARLEY, JERRALLDEAN | 09/20/00
POCAHONTAS, AR
FATUCH, SUSAN MARIE | 09/20/00
EL PASO, TX
FORBES, DEBORAH LYNN | 09/20/00
THERMAN, CA
FORESTER, SANDY ALAN | 09/20/00
LYNWOOD, WA
FOWLER, RICHARD T JR | 09/20/00
CONWAY, AR
FRANK, RUTH MARIE | 09/20/00
PEQUOT LAKES, MN
GALENA, MARY E | 09/20/00
PUEBLO, CO
GARLEY, JACQUELYN MARIE | 09/20/00
UNION CITY, CA
GLADDEN, NYLA MAXINE | 09/20/00
SAN LEANDRO, CA
GREENWAY, RANDALL TODD | 09/20/00
ROGERS, AR
GUERRERO, MICHAEL JASON | 09/20/00
KINGSBURG, CA
GUNN, GARY M | 09/20/00
TALLULAH, LA
HA, JAE KYO | 09/20/00
TORRANCE, CA
HAN, HE SOOK | 09/20/00
RANCHO PALOS VERDES, CA
HANNIGAN, KENNETH E | 09/20/00
CHICAGO, IL
HAUSKEN, KATHRYN J | 09/20/00
DENVER, CO
HAYSE, RAYMOND II | 09/20/00
SAN BERNARDINO, CA
HENDRICKS, JAMES WALLACE | 09/20/00
ROCHESTER, MN
HENNEFER, ROBERTA EILEEN | 09/20/00
ELKO, CA
HENSLEY JOBE, BETH ANN | 09/20/00
OKLAHOMA CITY, OK
HOLT, ANDREA JEAN | 09/20/00
MOORE, OK
HOLTAN, LYNN MARIE | 09/20/00
BRIDGEVIEW, IL
HOWELL, HEATHER ANN MEADOWS | 09/20/00
MOUNT JULIET, TN
HUTCHINSON, JIMMIE L | 09/20/00
BOISE, ID
INGRASSIA, JOHN FRANK | 09/20/00
STATEN ISLAND, NY
JARAMILLO, AARON T | 09/20/00
DENVER, CO
JARVIS, KATHLEEN JOYCE | 09/20/00
STILLWATER, MN
JOHNSON, SHARON FRANCINE | 09/20/00
FORD HEIGHTS, IL
JONES, VINCENT P III | 09/20/00
NEW BRITAIN, CT
JOSEPH, BRAD EDWARD | 09/20/00
PITTSBURGH, PA
JOYNER, NICHOLAS CHARLES | 09/20/00
E PALO ALTO, CA
KELLY, OBRA DELL | 09/20/00
LITTLE ROCK, AR
KELLY, SHERI LEIGH | 09/20/00
AYLETT, VA
KEMP, SONYA CHERIS | 09/20/00
CHICAGO, IL
KENT, CHARLES FOSTER | 09/20/00
CANTON, CT
KING, ELIZABETH ANNE | 09/20/00
NEW MILFORD, CT
KNIGHT, ROBERT ARLIE | 09/20/00
GOLDEN, CO
KUBICEK, TAMMY W | 09/20/00
HOUSTON, TX
LAFLAM, MAUREEN ANNE | 09/20/00
GILL, MA
LANZ, JAMES EVERETT | 09/20/00
SAUK RAPIDS, MN
LAUNER, MARY M CALDWELL | 09/20/00
JOHNSONBURG, PA
LEE, PHILIP JHUNE WHAN | 09/20/00
HONOLULU, HI
LEWANDOWSKI, PAULINE M | 09/20/00
SAN DIEGO, CA
LINDSAY, RUSSELL VERN | 09/20/00
SACHSE, TX
LOGE, DARLA JEAN | 09/20/00
AUSTIN, MN
LYBBERT, GLEN DOUGLAS | 09/20/00
LAS VEGAS, NV
MATHEWS, ROGER DEAN | 09/20/00
LOMPOC, CA
MAWYER, MARY FRANCES | 09/20/00
TROY, VA
MAYFIELD, APRIL E | 09/20/00
RUTLAND, VT
McCAFFREY, CHERYL ANN | 09/20/00
SULPHUR SPRINGS, AR
McCARTY, SONJA MARIE | 09/20/00
WEST HELENA, AR
MILLER, LINDA J | 09/20/00
CLOVIS, CA
MILLER, ANDREW F | 09/20/00
SCOTTSDALE, AZ
MOORE, BONNIE | 09/20/00
SUFFOLK, VA
MORGAN, JEROLD | 09/20/00
GILBERT, AZ
MOTLEY, EDWARD J JR | 09/20/00
CHESTER, PA
NIX, TASHA JUAN | 09/20/00
RED OAK, OK
O'CONNER, NANCY | 09/20/00
TUCSON, AZ
O'ROURKE, TERRENCE | 09/20/00
BOONVILLE, NY
OROZCO, DAVID FERNAN | 09/20/00
CHICAGO, IL
OSRUD, VINCENT J | 09/20/00
HOLLYWOOD, MD
PACK, A STEPHEN | 09/20/00
MILLWOOD, NY
PADY, STACY | 09/20/00
NEDERLAND, TX
PAPE, PAMELA ELLEN | 09/20/00
ALDERSON, WV
PARKER, APRIL RENEE | 09/20/00
HYATTSVILLE, MD
PATTERSON, LINDA KAY | 09/20/00
LAWTON, OK
PEARCE, MITCHELL JAMESON | 09/20/00
SAN JOSE, CA
PERRY, GLENDA A | 09/20/00
LAKE CITY, FL
PLANK, JUDITH ANNE | 09/20/00
DAVIS, CA
PRASKE, BECKY SUE | 09/20/00
AITKIN, MN
PRINCE, JONATHAN SWOPE | 09/20/00
LAGUNA BEACH, CA
PROKOP-BERGEMANN, LAUREN HELEN | 09/20/00
BRANFORD, CT
RASMUSSEN, RHETT DAVID | 09/20/00
BAKERSFIELD, CA
RAU, TIMOTHY J | 09/20/00
PITTSBURGH, PA
REAVES, ROGER S | 09/20/00
FERRON, UT
REED, ROBERT WILLIAM | 09/20/00
VACAVILLE, CA
REES-LONG, HEATHER LOUISE | 09/20/00
SPARLAND, IL
REYNOLDS, MICHAEL J | 09/20/00
SOLEDAD, CA
REYNOLDS, LINDA TOMASEK | 09/20/00
UNIONTOWN, PA
RICE, SHIRLEY H | 09/20/00
SOUTH BOSTON, VA
RIFKIND, STEPHEN PAUL | 09/20/00
SANTA YNEZ, CA
ROBERTS, JULIE C | 09/20/00
GOLDEN, CO
ROCK, JUDY LYNN | 09/20/00
HAMMOND, WI
ROMERO, MARLENE | 09/20/00
TRINIDAD, CO
ROUNDTREE, COSETTA LYNN | 09/20/00
ST CLOUD, MN
ROYAL, JEFFREY L | 09/20/00
KENSINGTON, MD
RYAN, MARGARET A | 09/20/00
LOUISVILLE, KY
RYAN, ROBERT E | 09/20/00
PARACHUTE, CO
SALKIND, SCOTT A | 09/20/00
CHERRY HILL, NJ
SANDAKER, GINA M | 09/20/00
MONTROSE, CO
SANTOS, ORLANDO | 09/20/00
LOS ANGELES, CA
SEIPERT, KEVIN ERIC | 09/20/00
OREM, UT
SIMMONS, ELIZABETH ANNE | 09/20/00
ROYAL, AR
SIMMONS, LESTER ALWYN | 09/20/00
EL DORADO HILLS, CA
SLATON, CYNTHIA NATIONS | 09/20/00
YAZOO CITY, MS
SMILEY, JAMES DWIGHT | 09/20/00
BURLINGAME, CA
SPEKTOR, IOSEF G | 09/20/00
WOODCLIFF LAKE, NJ
STELZIG, JONI ELIZABETH | 09/20/00
SEWICKLEY, PA
STEWARD, ROBERT H | 09/20/00
HOUSTON, TX
STOVALL WHITTLE, SHELLY KAY | 09/20/00
LITTLE ROCK, AR
SUMO, EDWARD QUIQUI | 09/20/00
BROOKLYN PARK, MN
TANNE, LOUIS ALEXANDER | 09/20/00
CANON CITY, CO
THOMPSON, LORI B | 09/20/00
GRANITE CITY, IL
TURNER, CINDY | 09/20/00
WELLS, NV
VALDEPENAS, EDWIN B | 09/20/00
CHULA VISTA, CA
VIALPANDO, EVON M | 09/20/00
DENVER, CO
WAGNER, CHRISTINA MARIE | 09/20/00
EAST BETHEL, MN
WALSBURG, GARY JOHN | 09/20/00
DULUTH, MN
WAYMENT, DARLA | 09/20/00
MIDVALE, UT
WEISS, TOBA NANCY | 09/20/00
PROVIDENCE, RI
WELLER, MARK RONALD | 09/20/00
WHITE BEAR LAKE, MN
WERNER, DONALD R | 09/20/00
MAHOPOC, NY
WILLIAMS, JOSEPH MATHEW JR | 09/20/00
CHICAGO, IL
WOOD, LAURIE W | 09/20/00
WILLIAMSBURG, VA
WOODS, VERONICA GAYE | 09/20/00
CARSON, CA
WYSOCKI, SHARON M | 09/20/00
PEORIA, IL
YAM, CHE L | 09/20/00
SACRAMENTO, CA
YEDVAB, MIRIAM | 09/20/00
SHERMAN OAKS, CA
ZIMMERMAN, DANIEL J | 09/20/00
HAWTHORNE, NJ
LIMIT MEDICAL SUPPLY | 09/20/00
ROSEMEAD, CA
NEWMAN, KELLYE DAWN | 09/20/00
ALEXANDRIA, LA
TATE, EDWARD | 09/20/00
CLAYTON, MO
FRAUD/KICKBACKS
HARRIS, LILLIE MAE | 06/30/00
HARVEY, IL
INTERNATIONAL HEALTH LAB | 04/19/00
HIALEAH, FL
PERALTA, MARIANO C | 04/19/00
TAMPA, FL
PONY SYSTEMS LIMITED, INC. | 06/30/00
HARVEY, IL
ENTITIES OWNED/CONTROLLED BY CONVICTED
CHURCH MEDICAL SERVICES, P C | 09/20/00
BROOKLYN, NY
JAY DRUGS, INC | 09/20/00
COPIAGUE, NY
JULIE ROBERTS, L L C | 09/20/00
SPRINGFILED, MO
MEDI-EXPRESS MEDICAL | 09/20/00
MIAMI, FL
DEFAULT ON HEAL LOAN
ALDEN, THOMAS E | 09/20/00
CAMBRIDGE, MA
ANYAJI, GEORGE I | 07/03/00
SAN DIEGO, CA
BALDWIN, TIMOTHY ALLEN | 09/20/00
WEBSTER, TX
BEARDEN, THOMAS R | 09/20/00
FRESNO, CA
BLEVINS, STEVEN W | 09/20/00
CARY, IL
BLITZ, ARIE | 09/20/00
ORANGE, CA
BOLTON, PAUL K | 09/20/00
DENVER, CO
BORDEN, MARK G | 09/20/00
SANTA BARBARA, CA
BRADSHAW, MARK F | 09/20/00
WACONIA, MN
BRANTNER, RAY J | 09/20/00
PHOENIX, AZ
BRYANT, CLIFFORD E | 09/20/00
GREENVILLE, TN
CANTRELL, EDWARD GENE | 09/20/00
SPRING HILL, KS
CARTER, ERIC W JR | 09/20/00
NASHVILLE, TN
CAUSEY, DENNIS M | 09/20/00
SAN FRANCISCO, CA
COLLINS, MATTHEW W C | 09/20/00
VAN NUYS, CA
COPELAND, JERRELLE M | 09/20/00
APACHE JUNCTION, AZ
CORY, ROBERT GLEN | 09/20/00
TRABUCO CANYON, CA
CULBERTSON, VIRGINIA B | 09/20/00
BRAINTREE, MA
DOLAN, CAROLYN L | 09/20/00
SHAWNEE MISSION, KS
FELTON, DWAYNE A | 09/20/00
NEW ORLEANS, LA
FLOYD, HARVELL L | 09/20/00
PARK FOREST, IL
FONT, DAVID E JR | 07/24/00
LORAIN, OH
GEORGE, ANTONY M | 09/20/00
EUCLID, OH
GROSS, SHEPHERD JR | 09/20/00
CHICAGO, IL
HARDMAN, RONALD D | 09/20/00
MARSHALL, TX
HENDERSON, TERRY L | 09/20/00
FORT THOMAS, KY
HERRON, WOODIE D | 08/02/00
ABERDEEN, MS
HURLEY, RANDALL S | 09/20/00
PRESCOTT, AZ
KAISER, GORDON W III | 09/20/00
CHAMBERSBURG, PA
KAYE, LARRY C | 09/20/00
CLEVELAND, OH
KING, EDGARD M JR | 09/20/00
SHAWNEE MISSION, KS
LINDLY, MAURICE T III | 09/20/00
SALINAS, CA
LISNER, BLAINE M | 09/20/00
BOWLING GREEN, KY
MACKEY ANNNING, JUDY A | 09/20/00
NEW ORLEANS, LA
MARTINSON, DAVID L | 07/03/00
FARGO, ND
NILES-HASTY, GLORIA Y | 09/20/00
SAN LORENZO, CA
OJUKWU, EMEKA P | 09/20/00
HOUSTON, TX
PENA, CARMEN F | 09/20/00
N BERGEN, NJ
REID, SOPHIA B | 09/20/00
PHILADELPHIA, PA
RIVERA-LOPEZ, AIXA | 09/20/00
CAGUAS, PR
SCHULTEN, ERIC A | 09/20/00
SARASOTA, FL
STARINSKI, JOHN S | 09/20/00
BANGOR, PA
STILLMAN, JEFFREY C | 09/20/00
BINGHAMTON, NY
SUTPHIN, BARRY W | 09/20/00
BRADENTON, FL

Dated: September 13, 2000.
Calvin Anderson,
Acting Director, Health Care Administrative Sanctions, Office of Inspector General.

[FR Doc. 00-24345 Filed 9-21-00; 8:45 am]

BILLING CODE 4150-04-P